ENVIRONMENTAL PROTECTION AGENCY

[FRL-9793-9]

Public Water System Supervision Program Approval for the State of Michigan

AGENCY: Environmental Protection Agency (EPA).

ACTION: Notice of tentative approval.

SUMMARY: Notice is hereby given that the EPA has tentatively approved five revisions to the State of Michigan's public water system supervision program. Michigan has revised several of its rules to comply with the National Primary Drinking Water Regulations, including the Ground Water Rule, the Stage 2 Disinfectants and Disinfection Byproducts Rule, the Long-Term 2 Enhanced Surface Water Treatment Rule, the Lead and Copper Rule Short Term Revisions, and the Lead and Copper Rule Minor Revisions. These rules better protect public health by controlling microbial contaminants and disinfection byproducts, and streamline existing lead and copper rule requirements.

EPA has determined that these revisions are no less stringent than the corresponding federal regulations. Therefore, EPA intends to approve these revisions, thereby giving the Michigan Department of Environmental Quality primary enforcement responsibility for these regulations. This approval action does not extend to public water systems in Indian Country, as the term is defined in 18 U.S.C. 1151. By approving these rules, EPA does not intend to affect the rights of federally recognized Indian Tribes in Michigan, nor does it intend to limit existing rights of the State of Michigan.

DATES: Any interested person may request a public hearing. A request for a public hearing must be submitted to the Regional Administrator at the EPA Region 5 address shown below by April 25, 2013. If a substantial request for a public hearing is made within the requested timeframe, a public hearing will be held and a notice of such hearing will be given in the Federal Register and a newspaper of general circulation. The Regional Administrator may deny frivolous or insubstantial requests for a hearing. If EPA Region 5 does not receive a timely and appropriate request for a hearing and the Regional Administrator does not elect to hold a hearing on her own motion, this determination shall become final and effective on April 25, 2013. Any request for a public hearing shall include the following information: the name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Michigan Department of Environmental Quality, Office of Drinking Water and Municipal Assistance, 525 W. Allegan Street P.O. Box 30273, Lansing, Michigan 48909-7773, between the hours of 9:00 a.m. and 4:00 p.m., Monday through Friday, and the United States Environmental Protection Agency, Region 5,

Ground Water and Drinking Water Branch (WG-15J), 77 West Jackson Boulevard, Chicago, Illinois 60604, between the hours of 9:00 a.m. and 4:00 p.m., Monday through Friday.

FOR FURTHER INFORMATION CONTACT: Jennifer Crooks, EPA Region 5, Ground Water and Drinking Water Branch, at the address given above, by telephone at (312) 886-0244, or at crooks.jennifer@epa.gov.

Authority: Section 1413 of the Safe Drinking Water Act, 42 U.S.C. 300g-2, and the federal regulations implementing Section 1413 of the Act set forth at 40 CFR 142.

Dated: March 13, 2013.
Susan Hedman,
Regional Administrator, Region 5.

[FR Doc. 2013-06895 Filed 3-25-13; 8:45 am]

BILLING CODE 6560-50-P